DEPARTMENT OF HOUSING AND URBAN DEVELOPMENT

[Docket No. FR-4730-N-26]

Federal Property Suitable as Facilities To Assist the Homeless

AGENCY: Office of the Assistant Secretary for Community Planning and Development, HUD.

ACTION: Notice.

SUMMARY: This Notice identifies unutilized, underutilized, excess and surplus Federal property reviewed by HUD for suitability for possible use to assist the homeless.

FOR FURTHER INFORMATION CONTACT: Mark Johnston, room 7266, Department of Housing and Urban Development, 451 Seventh Street SW., Washington, DC 20410; telephone (202) 708-1234; TTY number for the hearing- and speech-impaired (202) 708-2565 (these telephone numbers are not toll-free), or call the toll-free Title V information line at 1-800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Brian Rooney, Division of Property Management, Program Support Center, HHS, room 5B-41, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 25 CFR part 581.

For properties listed as suitable/to be excess, that property may, if subsequently accepted as excess by GSA, be made available for use by the homeless in accordance with applicable law, subject to screening for other Federal use. At the appropriate time, HUD will publish the property in a Notice showing it as either suitable/available, or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Mark Johnston at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: DOT: Mr. Rugene Spruill, Principal, Space Management, SVC-140, Transportation Administration Service Center, Department of Transportation, 400 7th Street, SW., Room 2310, Washington, DC 20590; (202) 366-4246; Energy: Mr. Tom Knox, Department of Energy, Office of Engineering & Construction Management, CR-80, Washington, DC 20585; (202) 586-8715; GSA: Mr. Brian K. Polly, Assistant Commissioner, General Services Administration, Office of Property Disposal, 18th and F Streets, NW., Washington, DC 20405; (202) 501-0052; Navy: Mr. Charles C. Cocks, Director, Department of the Navy, Real Estate Policy Division, Naval Facilities Engineering Command, Washington Navy Yard, 1322 Patterson Ave., SE., Suite 1000, Washington, DC 20374-5065; (202) 685-9200; (These are not toll-free numbers).

Dated: June 19, 2002.
John D. Garrity,
Director, Office of Special Needs Assistance Programs.

TITLE V, FEDERAL SURPLUS PROPERTY PROGRAM FEDERAL REGISTER REPORT FOR 6/28/02

Suitable/Available Properties

Buildings (by State)

California

Merced Federal Bldg.

415 W. 18th St.

Merced Co: CA 95340-

Landholding Agency: GSA

Property Number: 54200220012

Status: Surplus

Comment: 15,492 sq. ft., presence of asbestos/lead paint, Historic Preservation Covenant will be included in deed, relocation issue

GSA Number: 9-G-CA-1567

Unsuitable Properties

Buildings (by State)

California

Bldgs. 154, 157

Navy Region South West

San Diego Co: CA

Landholding Agency: Navy

Property Number: 77200220072

Status: Excess

Reason: Extensive deterioration

Bldg. P-1019

Marine Corps Base

Camp Pendleton Co: CA 92055-

Landholding Agency: Navy

Property Number: 77200220073

Status: Excess

Reason: Extensive deterioration

Bldg. P-4039

Marine Corps Base

Camp Pendleton Co: CA 92055-

Landholding Agency: Navy

Property Number: 77200220074

Status: Excess

Reason: Extensive deterioration

Bldg. P-5011

Marine Corps Base

Camp Pendleton Co: CA 92055-

Landholding Agency: Navy

Property Number: 77200220075

Status: Excess

Reason: Extensive deterioration

Bldg. P-7058

Marine Corps Base

Camp Pendleton Co: CA 92055-

Landholding Agency: Navy

Property Number: 77200220076

Status: Excess

Reason: Extensive deterioration

Bldg. 354

Naval Weapons Station

Seal Beach Co: CA

Landholding Agency: Navy

Property Number: 77200220077

Status: Unutilized

Reason: Extensive deterioration

Bldg. 356

Naval Weapons Station

Seal Beach Co: CA

Landholding Agency: Navy

Property Number: 77200220078

Status: Unutilized

Reason: Extensive deterioration

Bldg. 357

Naval Weapons Station

Seal Beach Co: CA

Landholding Agency: Navy

Property Number: 77200220079

Status: Unutilized

Reason: Extensive deterioration

Bldg. 358

Naval Weapons Station

Seal Beach Co: CA

Landholding Agency: Navy

Property Number: 77200220080

Status: Unutilized

Reason: Extensive deterioration

Qtrs. D

USCG Pt. Conception

Light Station

Lompoc Co: CA

Landholding Agency: DOT

Property Number: 87200220008

Status: Unutilized

Reason: Extensive deterioration

Qtrs. A&B

USCG Pt. Arguello

LORAN Station

Lompoc Co: CA

Location: Vandenberg AFB

Landholding Agency: DOT

Property Number: 87200220009

Status: Unutilized

Reasons: Secured Area; Extensive deterioration

Garage

USCG Pt. Arguello

LORAN Station

Lompoc Co: CA

Location: Vandenberg AFB

Landholding Agency: DOT

Property Number: 87200220010

Status: Unutilized

Reasons: Secured Area; Extensive deterioration

Qtrs. C&D

USCG Pt. Arguello

LORAN Station

Lompoc Co: CA

Location: Vandenberg AFB

Landholding Agency: DOT

Property Number: 87200220011

Status: Unutilized

Reasons: Secured Area; Extensive deterioration

Transmitter Bldg.

USCG Pt. Arguello

LORAN Station

Lompoc Co: CA

Location: Vandenberg AFB

Landholding Agency: DOT

Property Number: 87200220012

Status: Unutilized

Reasons: Secured Area; Extensive deterioration

Tennessee

Bldgs. 2013, 2506, 6003

Oak Ridge National Lab

Oak Ridge Co: Roane TN 37831-

Landholding Agency: Energy

Property Number: 41200220060

Status: Unutilized

Reasons: Secured Area; Extensive deterioration

Unsuitable Properties

Buildings (by State)

Virginia

4 Bldgs.

Naval Amphibious Base, Little Creek

2080, 3892, 3898, 3904

Norfolk Co: VA 23521-

Landholding Agency: Navy

Property Number: 77200220081

Status: Excess

Reasons: Within 2000 ft. of flammable or explosive material; Secured Area

Bldg. 3890

Naval Amphibious Base

Little Creek

Norfolk Co: VA 23521-

Landholding Agency: Navy

Property Number: 77200220082

Status: Excess

Reasons: Within 2000 ft. of flammable or explosive material; Secured Area

Bldgs. 3894, 3896

Naval Amphibious Base

Little Creek

Norfolk Co: VA 23521-

Landholding Agency: Navy

Property Number: 77200220083

Status: Excess

Reasons: Within 2000 ft. of flammable or explosive material; Secured Area

Bldg. CAD40

Naval Weapons Station

Yorktown Co: VA 23691-

Landholding Agency: Navy

Property Number: 77200220084

Status: Excess

Reason: Secured Area

Bldg. CAD41

Naval Weapons Station

Yorktown Co: VA 23691-

Landholding Agency: Navy

Property Number: 77200220085

Status: Excess

Reason: Secured Area

Bldg. CAD479

Naval Weapons Station

Yorktown Co: VA 23691-

Landholding Agency: Navy

Property Number: 77200220086

Status: Excess

Reason: Secured Area

Pier 14

Naval Shipyard

St. Helena Annex

Norfolk Co: VA

Landholding Agency: Navy

Property Number: 77200220087

Status: Excess

Reason: Extensive deterioration

Bldg. 871

Naval Ship Yard

Portsmouth Co: VA

Landholding Agency: Navy

Property Number: 77200220088

Status: Excess

Reason: Extensive deterioration

Bldg. 108

Dam Neck Naval Base

Virginia Beach Co: VA 23461-

Landholding Agency: Navy

Property Number: 77200220089

Status: Excess

Reason: Secured Area

Bldg. 150

Naval Air Station Oceana

Virginia Beach Co: VA 23461-

Landholding Agency: Navy

Property Number: 77200220090

Status: Excess

Reason: Secured Area

Bldg. 413

Naval Air Station Oceana

Virginia Beach Co: VA 23461-

Landholding Agency: Navy

Property Number: 77200220091

Status: Excess

Reason: Secured Area

Bldg. 422

Naval Air Station Oceana

Virginia Beach Co: VA 23461-

Landholding Agency: Navy

Property Number: 77200220092

Status: Excess

Reason: Secured Area

Bldg. 501

Naval Air Station Oceana

Virginia Beach Co: VA 23461-

Landholding Agency: Navy

Property Number: 77200220093

Status: Excess

Reason: Secured Area

Bldg. 528

Naval Air Station Oceana

Virginia Beach Co: VA 23461-

Landholding Agency: Navy

Property Number: 77200220094

Status: Excess

Reason: Secured Area

Bldg. 553

Naval Air Station Oceana

Virginia Beach Co: VA 23461-

Landholding Agency: Navy

Property Number: 77200220095

Status: Excess

Reason: Secured Area

Bldg. 557

Naval Air Station Oceana

Virginia Beach Co: VA 23461-

Landholding Agency: Navy

Property Number: 77200220096

Status: Excess

Reason: Secured Area

Bldg. 565

Naval Air Station Oceana

Virginia Beach Co: VA 23461-

Landholding Agency: Navy

Property Number: 77200220097

Status: Excess

Reason: Secured Area

Bldg. 582

Naval Air Station Oceana

Virginia Beach Co: VA 23461-

Landholding Agency: Navy

Property Number: 77200220098

Status: Excess

Reason: Secured Area

Bldg. 584

Naval Air Station Oceana

Virginia Beach Co: VA 23461-

Landholding Agency: Navy

Property Number: 77200220099

Status: Excess

Reason: Secured Area

Bldg. 606

Naval Air Station Oceana

Virginia Beach Co: VA 23461-

Landholding Agency: Navy

Property Number: 77200220100

Status: Excess

Reasons: Within airport runway clear zone; Secured Area

Bldg. 607

Naval Air Station Oceana

Virginia Beach Co: VA 23461-

Landholding Agency: Navy

Property Number: 77200220101

Status: Excess

Reasons: Secured Area; Extensive deterioration

Bldg. 614

Naval Air Station Oceana

Virginia Beach Co: VA 23461-

Landholding Agency: Navy

Property Number: 77200220102

Status: Excess

Reason: Secured Area

Bldg. 821

Naval Air Station Oceana

Virginia Beach Co: VA 23461-

Landholding Agency: Navy

Property Number: 77200220103

Status: Excess

Reasons: Within airport runway clear zone; Secured Area

Bldg. 824

Naval Air Station

Virginia Beach Co: VA 23461-

Landholding Agency: Navy

Property Number: 77200220104

Status: Excess

Reasons: Within airport runway clear zone; Secured Area

Bldg. 1420

Naval Air Station Oceana

Virginia Beach Co: VA 23461-

Landholding Agency: Navy

Property Number: 77200220105

Status: Excess

Reasons: Within 2000 ft. of flammable or explosive material; Within airport runway clear zone; Secured Area

Bldg. A-2

Naval Air Station Oceana

Virginia Beach Co: VA 23461-

Landholding Agency: Navy

Property Number: 77200220106

Status: Excess

Reasons: Within airport runway clear zone; Secured Area; Extensive deterioration

Facility F-11

Naval Air Station Oceana

Virginia Beach Co: VA 23460-

Landholding Agency: Navy

Property Number: 77200220107

Status: Excess

Reasons: Within airport runway clear zone; Secured Area

[FR Doc. 02-16038 Filed 6-27-02; 8:45 am]

BILLING CODE 4210-29-M